DEPARTMENT OF HEALTH AND HUMAN SERVICES

Health Resources and Services Administration

Agency Information Collection Activities: Submission to OMB for Review and Approval; Information Collection Request Title: Ryan White HIV/AIDS Program: Allocation and Expenditure Forms, OMB No. 0915-0318—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than April 26, 2017.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: Ryan White HIV/AIDS Program: Program Allocation and Expenditure Forms, OMB No. 0915-0318—Revision.

Abstract: HRSA's HIV/AIDS Bureau (HAB) administers the Ryan White HIV/AIDS Program authorized under Title XXVI of the Public Health Service Act as amended by the Ryan White HIV/AIDS Treatment Extension Act of 2009. The Ryan White HIV/AIDS Program Allocation and Expenditure Forms (A&E Reports), in conjunction with the Consolidated List of Contractors (CLC), enables HAB to monitor and track the use of grant funds for compliance with program and grants policies and requirements under the statute. By regulation, recipients are required to submit financial reports annually to HRSA, and the A&E Reports and the CLC are HAB's mechanism to implement that requirement. Recipients funded under Parts A, B, C, and D of the Ryan White HIV/AIDS Program (codified under Title XXVI of the Public Health Service Act) are required to report financial data to HRSA at the beginning (Allocations Form) and at the end (Expenditure Form) of their annual budget period. Recipients funded under Parts A and B are required to report information about their service provider contracts in the CLC.

The forms require recipients to report how funds are allocated and spent on core medical and support services for people living with HIV, and on various program components, such as administration, planning and evaluation, and clinical quality management. The A&E Reports are identical in the types of information they collect. However, the Allocations Report tracks the allocation of the award at the beginning of the annual budget period, and the Expenditures Report tracks actual expenditures (including carryover dollars) at the end of the annual budget period. The CLC form identifies a recipient's contracts with service providers for the current grant year, the contract amount, and the types of services being provided. This revision proposes minor changes to the list of allowable services, specifically by consolidating “Legal Services” and “Permanency Planning” into “Other Professional Services” under Part A and Part B; deleting a “Treatment Adherence Counseling” category from allowable services under Part A; adding “Housing Services” and “Early Intervention Services” under Part C program; and adding “Substance Abuse Services—Residential” under Part D program. As a result of these changes and improving the electronic submission of data through HRSA's Electronic Handbooks, the estimated total annual burden hours will decrease from 4,266 hours in 2014 to 2,692 in 2017.

Need and Proposed Use of the Information: Accurate allocation, expenditure, and service contract records of the recipients receiving Ryan White HIV/AIDS Program funding are critical to the implementation of the statute. The primary purposes of these forms are to provide information on the number of grant dollars spent on various services and program components and ensure program compliance.

Likely Respondents: Ryan White HIV/AIDS Program recipients.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Part A Allocations Report | 52 | 1 | 52 | 3 | 156
Part A Expenditures Report | 52 | 1 | 52 | 3 | 156
Part A CLC | 52 | 1 | 52 | 4 | 208
Part B Allocations Report | 54 | 1 | 54 | 2 | 108
Part B Expenditures Report | 54 | 1 | 54 | 2 | 108
Part B CLC | 54 | 1 | 54 | 2 | 108
Part C Allocations Report | 346 | 1 | 346 | 2 | 692
Part C Expenditures Report | 346 | 1 | 346 | 2 | 692
Part D Allocations Report | 116 | 1 | 116 | 2 | 232
Part D Expenditures Report | 116 | 1 | 116 | 2 | 232
Total |  |  | 1,294 |  | 2,692

Jason E. Bennett,
Director, Division of the Executive Secretariat.

[FR Doc. 2017-05948 Filed 3-24-17; 8:45 am]

BILLING CODE 4165-15-P